ADVISORY COUNCIL ON HISTORIC PRESERVATION

Meeting Notice

AGENCY: Advisory Council on Historic Preservation.

ACTION: Notice of meeting.

SUMMARY: Notice is hereby given that the Advisory Council on Historic Preservation (ACHP) will meet on Friday, May 9, 2003. The meeting will be held in Room M-09 at the Old Post Office Building, 1100 Pennsylvania Avenue, NW., Washington, DC, beginning at 9 a.m.

The ACHP was established by the National Historic Preservation Act of 1966 (16 U.S.C. 470 et seq.) to advise the President and the Congress on matters relating to historic preservation and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome

II. Presentation of Chairman's Awards for Federal Achievement in Historic Preservation

III. Report of the Executive Committee

A. FY 2004 ACHP Appropriations

B. Legislative Issues

1. ACHP Reauthorization Legislation

2. Surface Transportation Reauthorization Legislation

3. Historic Preservation Tax Incentives

C. Revision of ACHP Strategic Plan

IV. Preserve America Program Development

A. Presidential Awards

B. Preserve America Communities

V. Preserve America Executive Order Implementation

A. Interagency Assistance Efforts

B. Guidelines for Federal Agency Reports

VI. Report of the Preservation Initiatives Committee

A. Federal Heritage Tourism Summit II

B. ACHP Donations Strategy

VII. Report of the Federal Agency Programs Committee

A. Army Alternate Procedures—Amendment and Implementation Report

B. Program Comment for Dudded Areas

C. Section 106 Cases

VIII. Report of the Communications, Education, and Outreach Committee

A. Publicity for Preserve America and Executive Order

B. Dissemination of ACHP Publications

IX. Chairman's Report

A. Meeting with Tribal Representatives

B. Reissue of Federal Stewardship Report

X. Executive Director's Report

XI. New Business

XII. Adjourn

Note: The meetings of the ACHP are open to the public. If you need special accommodations due to a disability, please contact the Advisory Council on Historic Preservation, 1100 Pennsylvania Ave., NW., Room 809, Washington, DC, 202-606-8503, at least seven (7) days prior to the meeting.

FOR FURTHER INFORMATION CONTACT: Additional information concerning the meeting is available from the Executive Director, Advisory Council on Historic Preservation, 1100 Pennsylvania Ave., NW., #809, Washington, DC 20004.

Dated: April 9, 2003.
John M. Fowler,
Executive Director.

[FR Doc. 03-9038 Filed 4-11-03; 8:45 am]

BILLING CODE 4310-10-M